DEPARTMENT OF AGRICULTURE

Foreign Agricultural Service

WTO Agricultural Quantity-Based Safeguard Trigger Levels

AGENCY: Foreign Agricultural Service, U.S. Department of Agriculture.

ACTION: Notice of product coverage and trigger levels for safeguard measures provided for in the World Trade Organization (WTO) Agreement on Agriculture.

SUMMARY: This notice lists the updated quantity-based trigger levels for products which may be subject to additional import duties under the safeguard provisions of the WTO Agreement on Agriculture. This notice also includes the relevant period applicable for the trigger levels on each of the listed products.

DATES: June 21, 2013.

FOR FURTHER INFORMATION CONTACT: Souleymane Diaby, Import Policies and Export Reporting Division, Office of Trade Programs, Foreign Agricultural Service, U.S. Department of Agriculture, Stop 1021, 1400 Independence Avenue SW., Washington, DC 20250-1021; by telephone (202) 720-2916; by fax (202) 720-0876; or by email Souleymane.Diaby@fas.usda.gov.

SUPPLEMENTARY INFORMATION: Article 5 of the WTO Agreement on Agriculture provides that additional import duties may be imposed on imports of products subject to tariffication as a result of the Uruguay Round, if certain conditions are met. The agreement permits additional duties to be charged if the price of an individual shipment of imported products falls below the average price for similar goods imported during the years 1986-88 by a specified percentage. It also permits additional duties to be imposed if the volume of imports of an article exceeds the average of the most recent 3 years for which data are available by 5, 10, or 25 percent, depending on the article. These additional duties may not be imposed on quantities for which minimum or current access commitments were made during the Uruguay Round negotiations, and only one type of safeguard, price or quantity, may be applied at any given time to an article.

Section 405 of the Uruguay Round Agreements Act requires that the President cause to be published in the Federal Register information regarding the price and quantity safeguards, including the quantity trigger levels, which must be updated annually based upon import levels during the most recent 3 years. The President delegated this duty to the Secretary of Agriculture in Presidential Proclamation No. 6763, dated December 23, 1994, 60 FR 1005 (Jan. 4, 1995). The Secretary of Agriculture further delegated this duty, which lies with the Administrator of the Foreign Agricultural Service (7 CFR 2.43 (a)(2)). The Annex to this notice contains the updated quantity trigger levels.

Additional information on the products subject to safeguards and the additional duties which may apply can be found in subchapter IV of Chapter 99 of the Harmonized Tariff Schedule of the United States (2013) and in the Secretary of Agriculture's Notice of Uruguay Round Agricultural Safeguard Trigger Levels, published in the Federal Register at 60 FR 427 (Jan. 4, 1995).

Notice: As provided in Section 405 of the Uruguay Round Agreements Act, consistent with Article 5 of the WTO Agreement on Agriculture, the safeguard quantity trigger levels previously notified are superceded by the levels indicated in the Annex to this notice. The definitions of these products were provided in the Notice of Safeguard Action published in the Federal Register, at 60 FR 427 (Jan. 4, 1995).

Issued at Washington, DC, this 11th day of June 2013.
Philip Karsting,
Administrator, Foreign Agricultural Service.

Annex—Quantity-Based Safeguard Trigger
Product | Trigger level | Period
Beef | 233,306 mt | January 1, 2013 to December 31, 2013.
Mutton | 5,928 mt | January 1, 2013 to December 31, 2013.
Cream | 228,785 liters | January 1, 2013 to December 31, 2013.
Evaporated or Condensed Milk | 1,049,608 kilograms | January 1, 2013 to December 31, 2013.
Nonfat Dry Milk | 399,353 kilograms | January 1, 2013 to December 31, 2013.
Dried Whole Milk | 3,086,377 kilograms | January 1, 2013 to December 31, 2013.
Dried Cream | 11,055 kilograms | January 1, 2013 to December 31, 2013.
Dried Whey/Buttermilk | 39,875 kilograms | January 1, 2013 to December 31, 2013.
Butter | 6,009,631 kilograms | January 1, 2013 to December 31, 2013.
Butter Oil and Butter Substitutes | 5,923,219 kilograms | January 1, 2013 to December 31, 2013.
Dairy Mixtures | 14,186,738 kilograms | January 1, 2013 to December 31, 2013.
Blue Cheese | 4,392,999 kilograms | January 1, 2013 to December 31, 2013.
Cheddar Cheese | 7,755,536 kilograms | January 1, 2013 to December 31, 2013.
American-Type Cheese | 1,046,825 kilograms | January 1, 2013 to December 31, 2013.
Edam/Gouda Cheese | 6,442,749 kilograms | January 1, 2013 to December 31, 2013.
Italian-Type Cheese | 19,107,668 kilograms | January 1, 2013 to December 31, 2013.
Swiss Cheese with Eye Formation | 24,721,281 kilograms | January 1, 2013 to December 31, 2013.
Gruyere Process Cheese | 3,321,700 kilograms | January 1, 2013 to December 31, 2013.
Lowfat Cheese | 179,373 kilograms | January 1, 2013 to December 31, 2013.
NSPF Cheese | 44,901,487 kilograms | January 1, 2013 to December 31, 2013.
Peanuts | 19,018 mt | April 1, 2012 to March 31, 2013.
| 21,598 mt | April 1, 2013 to March 31, 2014.
Peanut Butter/Paste | 4,475 mt | January 1, 2013 to December 31, 2013.
Raw Cane Sugar | 1,054,460 mt | October 1, 2012 to September 30, 2013.
| 1,033,635 mt | October 1, 2013 to September 30, 2014.
Refined Sugar and Syrups | 208,571 mt | October 1, 2012 to September 30, 2013.
| 215,423 mt | October 1, 2013 to September 30, 2014.
Blended Syrups | 154 mt | October 1, 2012 to September 30, 2013.
| 145 mt | October 1, 2013 to September 30, 2014.
Articles Over 65% Sugar | 185 mt | October 1, 2012 to September 30, 2013.
| 238 mt | October 1, 2013 to September 30, 2014.
Articles Over 10% Sugar | 13,061 mt | October 1, 2012 to September 30, 2013.
| 14,942 mt | October 1, 2013 to September 30, 2014.
Sweetened Cocoa Powder | 305 mt | October 1, 2012 to September 30, 2013.
| 124 mt | October 1, 2013 to September 30, 2014.
Chocolate Crumb | 7,528,482 kilograms | January 1, 2013 to December 31, 2013.
Lowfat Chocolate Crumb | 177,658 kilograms | January 1, 2013 to December 31, 2013.
Infant Formula Containing Oligosaccharides | 797,480 kilograms | January 1, 2013 to December 31, 2013.
Mixes and Doughs | 218 mt | October 1, 2012 to September 30, 2013.
| 178 mt | October 1, 2013 to September 30, 2014.
Mixed Condiments and Seasonings | 419 mt | October 1, 2012 to September 30, 2013.
| 593 mt | October 1, 2013 to September 30, 2014.
Ice Cream | 1,920,680 liters | January 1, 2013 to December 31, 2013.
Animal Feed Containing Milk | 75,883 kilograms | January 1, 2013 to December 31, 2013.
Short Staple Cotton | 1,056,786 kilograms | September 20, 2012 to September 19, 2013.
| 2,385,410 kilograms | September 20, 2013 to September 19, 2014.
Harsh or Rough Cotton | 60 kilograms | August 1, 2012 to July 31, 2013.
| 60 kilograms | August 1, 2013 to July 31, 2014.
Medium Staple Cotton | 8,805 kilograms | August 1, 2012 to July 31, 2013.
| 57,587 kilograms | August 1, 2013 to July 31, 2014.
Extra Long Staple Cotton | 64 kilograms | August 1, 2012 to July 31, 2013.
| 505,834 kilograms | August 1, 2013 to July 31, 2014.
Cotton Waste | 393,492 kilograms | September 20, 2012 to September 19, 2013.
| 589,849 kilograms | September 20, 2013 to September 19, 2014.
Cotton, Processed, Not Spun | 77,794 kilograms | September 11, 2012 to September 10, 2013.
| 50,873 kilograms | September 11, 2013 to September 10, 2014.

[FR Doc. 2013-14858 Filed 6-20-13; 8:45 am]

BILLING CODE 3410-10-P